NUCLEAR REGULATORY COMMISSION

Advisory Committee on Nuclear Waste; Notice of Meeting

The Advisory Committee on Nuclear Waste (ACNW) will hold its 155th meeting on November 16-18, 2004, Room T-2B3, 11545 Rockville Pike, Rockville, Maryland.

The schedule for this meeting is as follows:

Tuesday, November 16, 2004

10:30 a.m.-10:40 a.m.: Opening Statement (Open)—The ACNW Chairman will open the meeting with brief opening remarks.

10:40 a.m.-11:40 a.m.: NMSS Division Directors' Semi-Annual Briefing (Open)—The Committee will be briefed by the Director, Division of High Level Waste Repository Safety and the Director, Division of Waste Management and Environmental Protection on recent activities of interest.

11:40 a.m.-12:40 p.m.: International Transportation Meetings (Open)—The Director, SFPO will report on recent international transportation-related meetings/activities of interest.

2 p.m.-3 p.m.: Format and Content of the U.S. Department of Energy Yucca Mountain License Application (Open)—The Committee will be briefed by a DOE representative on the general DOE format and content of the forthcoming DOE license application.

3:15 p.m.-5:15 p.m.: ACNW 2005 Action Plan (Open)—The ACNW Committee will continue its discussion of potential topics for inclusion in its draft 2005 Action Plan.

Wednesday, November 17, 2004

8:30 a.m.-8:35 a.m.: Opening Statement (Open)—The ACNW Chairman will make opening remarks regarding the conduct of today's sessions.

8:35 a.m.-10 a.m.: Working Group Planning Session (Open)—The Committee Members will discuss potential future activities including proposed 2005 working group meetings.

10 a.m.-12 Noon: Preparation of ACNW Reports (Open)—The Committee will discuss potential ACNW reports on matters discussed during this meeting. It may also discuss possible reports on matters discussed during prior meetings.

Thursday, November 18, 2004

8:30 a.m.-8:35 a.m.: Opening Remarks by the ACNW Chairman (Open)—The Chairman will make opening remarks regarding the conduct of today's sessions.

8:35 a.m.-12 Noon: Miscellaneous (Open)—The Committee will discuss matters related to the conduct of Committee activities and matters and specific issues that were not completed during previous meetings, as time and availability of information permit.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Mr. Howard J. Larson, (Telephone (301) 415-6805), between 7:30 a.m. and 4:00 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted, therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301) 415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: November 8, 2004.
Andrew L. Bates,
Advisory Committee Management Officer.

[FR Doc. 04-25259 Filed 11-12-04; 8:45 am]

BILLING CODE 7590-01-P